NUCLEAR REGULATORY COMMISSION

Atomic Safety and Licensing Board

[Docket Nos. 52-040-COL and 52-041-COL; ASLBP No. 10-903-02-COL-BD01]

In the Matter of Florida Power & Light Company (Turkey Point Units 6 and 7)

June 8, 2017.

Before Administrative Judges: E. Roy Hawkens, Chairman, Dr. Michael F. Kennedy, Dr. William C. Burnett

Notice and Order

(Scheduling and Providing Instructions for Oral Argument)

Pending before this Licensing Board is a request for a hearing and petition to intervene submitted on April 18, 2017 by the City of Miami, the Village of Pinecrest, and the City of South Miami (Petitioners).¹ Petitioners' proffered contention alleges that:

¹ See Petition for Leave to Intervene in a Hearing on [FPL's] Combined Construction and Operating License Application for Turkey Point Units 6 & 7 and File a New Contention (Apr. 18, 2017) [hereinafter Petition].

The [Final Safety Evaluation Report (FSER)] is deficient in concluding that [Florida Power & Light Company (FPL)] has demonstrated that it possesses or has reasonable assurance of obtaining the funds necessary to cover estimated construction costs and related fuel cycle costs and FPL has failed to indicate source(s) of funds to cover these costs.²

² Petition at 7.

After reviewing the petition and the subsequently filed related pleadings,³ the Board has determined that oral argument will assist it in resolving the issues presented. The Board will hold a telephonic oral argument concerning contention admissibility on Tuesday, June 20, 2017, at 2:00 p.m. EDT.

³ See NRC Staff's Response to New Arguments Raised in Petitioners' Reply (June 1, 2017); Petitioners' Reply to NRC Staff and FPL's Answers to Petition for Leave to Intervene in a Hearing on [FPL's] Combined Construction and Operating License Application for Turkey Point Units 6 & 7 and File a New Contention (May 22, 2017); NRC Staff Answer to Petition for Leave to Intervene and [File] New Contention (May 15, 2017); [FPL's] Answer Opposing [Petitioners'] Petition to Intervene and Request for Hearing Regarding the Combined Construction and Operating License Application for Turkey Point Units 6 & 7 (May 15, 2017).

The Board will hear argument from counsel for the parties in the following order: (1) Petitioners; (2) FPL; and (3) the NRC Staff. Petitioners will have 60 minutes of argument time, and they may reserve up to 20 minutes of that time for rebuttal. FPL and the NRC Staff will each have 30 minutes of argument time.

The following list includes topics the parties should address during oral argument. This list is not intended to be exclusive.

• Whether Westinghouse's bankruptcy filing, the resulting alleged termination of its Reservation Agreement with FPL, or the lack of a construction agreement between Westinghouse and FPL raise a genuine dispute on a material issue of law or fact with FPL's application for a combined license

• Whether FPL's ability to recover costs is material to the NRC Staff's determination of FPL's financial qualifications

• Whether Westinghouse's bankruptcy raises a genuine dispute on a material issue if FPL's ability to recover costs is not material to the NRC Staff's determination of FPL's financial qualifications

• The extent of the NRC Staff's review of an applicant's financial qualifications and the degree to which an applicant must be financially qualified to engage in construction of new nuclear units

• The feasibility of the Turkey Point project following Westinghouse's bankruptcy

• The effect on the petition of FPL's May 1 filing to the Florida Public Service Commission to request a deferral of nuclear cost recovery

• The effect on the petition of FPL's May 1 representation to the Florida Public Service Commission that the Turkey Point project is on a “pause”

On or before Friday, June 16, parties shall provide by email to the Board and the service list the name of the attorney who will present oral argument. The Board's law clerk, Kimberly Hsu, will provide the dial-in number and passcode to be used by counsel for the oral argument. No witnesses, other representatives of the parties, or members of the public will be heard during the argument. However, individuals who wish to hear the oral argument live on the listen-only telephone line may do so, and should contact Ms. Hsu at Kimberly.Hsu@nrc.gov or (301) 415-5939 for the dial-in number and passcode.

It is so ordered.

Rockville, Maryland.
Dated: June 8, 2017.
For the Atomic Safety and Licensing Board.
E. Roy Hawkens,
Chairman, Administrative Judge.

[FR Doc. 2017-12358 Filed 6-13-17; 8:45 am]

BILLING CODE 7590-01-P